DEPARTMENT OF JUSTICE

Notice of Lodging of Consent Decree Under the Comprehensive Environmental Response, Compensation, and Liability Act

Notice is hereby given that on December 6, 2004, an electronic version of a proposed consent decree was lodged in United States v. Marzone, Inc., et al., No. 7:02-CV-43 (M.D. Ga.). In the civil action, the United States alleges claims on behalf of the Administrator of the Environmental Protection Agency (“EPA”) against Defendants Chevron U.S.A., Inc.; Chevron Environmental Management Company; Kova Fertilizers, Inc.; Kova of Georgia, Inc.; Hercules Incorporated; Gold-Kist, Inc.; United States Steel Corporation (formerly USX Corporation); Velsicol Chemical Corporation; Universal Cooperative, Inc.; Traylor Chemical & Supply Company; Uniroyal Chemical Company, Inc.; Air Products and Chemicals, Inc.; Boise Cascade Corporation; El Paso Corporation; El Paso Tennessee Pipeline Company; EPEC Polymers, Inc.; Exxon Mobil Corporation; Estech, Inc.; Mr. Charles Ray Taylor and Harper Enterprises, Inc. under Section 107 of the Comprehensive Environmental Response, Compensation, and Liability Act (“CERCLA”), 42 U.S.C. 9607, in connection with the Marzone, Inc./Chevron Chemical Company Superfund Site in Tifton, Georgia (the “Site”).

Under the consent decree, the defendants will pay $3.3 million, which will be placed into a Superfund special account for the site. The covenant not to sue will apply to past costs and certain remedial action for operable unit 2 of the Site.

The Department of Justice will receive for a period of thirty (30) days from the date of this publication comments relating to the consent Decree. Comments should be addressed to the Assistant Attorney General, Environment and Natural Resources Division, P.O. Box 7611, U.S. Department of Justice, Washington, DC 20044-7611, and should refer to United States v. Marzone, Inc., et al., No. 7:02-CV-43 (M.D. Ga.), DOJ # 90-11-3-274/1.

The Consent Decree may be examined at the Office of the United States Attorney for the Middle District of Georgia, 433 Cherry St., Macon, Georgia 31202. During the public comment period, the Consent Decree may also be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $12.00 (25 cents per page reproduction cost) payable to the U.S. Treasury.

Ellen M. Mahan,
Assistant Chief, Environmental Enforcement Section, Environment and Natural Resources Division.

[FR Doc. 04-27484 Filed 12-15-04; 8:45 am]

BILLING CODE 4410-15-M